ENVIRONMENTAL PROTECTION AGENCY

[EPA-R04-OAR-2008-0216-200812; FRL-8558-9]

Adequacy Status of the Northern Kentucky Attainment Demonstration 8-Hour Ozone Motor Vehicle Emission Budgets for Transportation Conformity Purposes

AGENCY: Environmental Protection Agency (EPA).

ACTION: Notice of adequacy.

SUMMARY: EPA is notifying the public that it has found that the motor vehicle emissions budgets (MVEBs) in the Northern Kentucky Attainment Demonstration State Implementation Plan (SIP) revision, submitted on December 7, 2007, by the Kentucky Division of Air Quality (KDAQ) are adequate for transportation conformity purposes. As a result of EPA's finding, the Northern Kentucky Area (Boone, Campbell and Kenton Counties) must use the MVEBs from the December 7, 2007, Northern Kentucky Attainment Demonstration SIP for future conformity determinations for the 1997 8-hour ozone standard.

DATES: These MVEBs are effective May 13, 2008.

FOR FURTHER INFORMATION CONTACT: Lynorae Benjamin, U.S. Environmental Protection Agency, Region 4, Air Planning Branch, 61 Forsyth Street, SW., Atlanta, Georgia 30303. Ms. Benjamin can also be reached by telephone at (404) 562-9040, or via electronic mail at benjamin.lynorae@epa.gov. The finding is available at EPA's conformity Web site: http://www.epa.gov/otaq/stateresources/transconf/currsips.htm.

SUPPLEMENTARY INFORMATION: This notice is simply an announcement of a finding that EPA has already made. EPA Region 4 sent a letter to KDAQ on March 14, 2008, stating that the MVEBs in the Northern Kentucky Attainment Demonstration SIP, submitted on December 7, 2007, are adequate. The tri-state Cincinnati-Hamilton 8-hour ozone nonattainment area (Area) is comprised of the following counties: Boone, Campbell and Kenton in Kentucky; Butler, Clermont, Clinton, Hamilton and Warren in Ohio; and a portion of Dearborn in Indiana. Kentucky's Attainment Demonstration submittal addresses only MVEBs for the Kentucky portion of this Area. The MVEBs for the Ohio and Indiana portions of this Area are addressed in a separate submittal provided by Ohio and Indiana. In a separate letter, EPA made a similar determination for the MVEBs associated with the Ohio and Indiana portions of this Area. EPA is addressing the adequacy of the Ohio and Indiana MVEBs through a separate notice. EPA's adequacy comment period for the Kentucky submittal ran from December 18, 2007, through January 17, 2008. During EPA's adequacy comment period, no adverse comments were received. This finding has also been announced on EPA's conformity Web site: http://www.epa.gov/otaq/stateresources/transconf/pastsips.htm. The adequate MVEBs are provided in the following table:

Northern Kentucky 8-Hour Ozone MVEBs
[Tons per day]
| 2008
NOX | 21.36
VOC | 9.91

Transportation conformity is required by section 176(c) of the Clean Air Act. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 Code of Federal Regulations (CFR) 93.118(e)(4). We have also described the process for determining the adequacy of submitted SIP budgets in our July 1, 2004, final rulemaking entitled, “ Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it also should not be used to prejudge EPA's ultimate approval of the SIP. Even if EPA finds the MVEBs adequate, the Agency may later determine that the SIP itself is not approvable.

Within 24 months from the effective date of this notice, the transportation partners will need to demonstrate conformity to the new MVEBs if the demonstration has not already been made, pursuant to 40 CFR 93.104(e). See, 73 FR 4419 (January 24, 2008).

Authority: 42 U.S.C. 7401 et seq.

Dated: April 17, 2008.
Russell L. Wright, Jr.,
Acting Regional Administrator, Region 4.

[FR Doc. E8-9244 Filed 4-25-08; 8:45 am]

BILLING CODE 6560-50-P